DEPARTMENT OF COMMERCE

International Trade Administration

[A-423-808]

Stainless Steel Plate in Coils From Belgium: Notice of Preliminary Results of Antidumping Duty Changed Circumstances Review

AGENCY: Import Administration, International Trade Administration, Department of Commerce.

SUMMARY: In response to a request from the interested party, Aperam Stainless Belgium N.V. (“Aperam”), the Department of Commerce (“the Department”) initiated a changed circumstances review (“CCR”) of the antidumping duty order of stainless steel plate in coils (“SSPC”) from Belgium.¹ We have preliminarily determined that Aperam is the successor-in-interest to ArcelorMittal Stainless Belgium N.V. (“AMSB”) with respect to the antidumping duty order on SSPC from Belgium.² We invite interested parties to comment on these preliminary results. Parties who submit comments in these reviews are requested to submit with each argument (1) A statement of the issue and (2) a brief summary of the argument.

¹ See Stainless Steel Plate in Coils From Belgium: Notice of Initiation of Antidumping Duty Changed Circumstances Review, 76 FR 45511 (July 29, 2011) (“CCR Initiation Notice”).

² See Antidumping Duty Orders; Certain Stainless Steel Plate in Coils From Belgium, Canada, Italy, the Republic of Korea, South Africa, and Taiwan, 64 FR 27756 (May 21, 1999); Notice of Amended Antidumping Duty Orders; Certain Stainless Steel Plate in Coils From Belgium, Canada, Italy, the Republic of Korea, South Africa, and Taiwan, 68 FR 11520 (March 11, 2003); Notice of Amended Antidumping Duty Orders; Certain Stainless Steel Plate in Coils From Belgium, Canada, Italy, the Republic of Korea, South Africa, and Taiwan, 68 FR 16117 (April 2, 2003); Notice of Correction to the Amended Antidumping Duty Orders; Certain Stainless Steel Plate in Coils From Belgium, Canada, Italy, the Republic of Korea, South Africa, and Taiwan, 68 FR 20114 (April 24, 2003) (collectively, “Antidumping Order”).

DATES: Effective Date: October 26, 2011.

FOR FURTHER INFORMATION CONTACT: George McMahon or Stephanie Moore, AD/CVD Operations, Office 3, Import Administration, International Trade Administration, U.S. Department of Commerce, 14th Street & Constitution Avenue, NW., Washington, DC 20230; telephone: (202) 482-1167 and (202) 482-3692, respectively.

SUPPLEMENTARY INFORMATION:

Background

On May 21, 1999, the Department published in the Federal Register an antidumping duty order on stainless steel plate in coils from Belgium. See Antidumping Order. In the Department's initial less-than-fair-value investigation, the respondent company subject to investigation was ALZ N.V. On June 1, 2009, the Department determined that AMSB was the successor-in-interest to Ugine & ALZ Belgium (“U&A Belgium”), which was a successor-in-interest to ALZ N.V.³ The Department is currently conducting an administrative review of Aperam covering the period of review of May 1, 2010 through April 30, 2011.⁴

³ See, e.g., “Successor-in-Interest Analysis” Memorandum from G. McMahon to J. Terpstra, at page 2 (June 1, 2009), Attached as Appendix 4 to Aperam's request for a CCR; see also Stainless Steel Plate in Coils From Belgium: Notice of Initiation of Antidumping Duty Changed Circumstances Review, 76 FR 45511, 45512 (July 29, 2011).

⁴ See Initiation of Antidumping and Countervailing Duty Administrative Reviews and Request for Revocation in Part, 76 FR 37781 (June 28, 2011).

On June 14, 2011, Aperam requested that the Department initiate and conduct an expedited changed circumstances review to determine that for purposes of the antidumping law, Aperam is the successor-in-interest to AMSB.⁵ In response to Aperam's request, the Department initiated a changed circumstances review of the antidumping duty order on SSPC from Belgium. See CCR Initiation Notice. On August 8, 2011, the Department issued a questionnaire to Aperam and based on our analysis of its response, we preliminarily determine that Aperam is the successor-in-interest to AMSB, which was itself a successor-in-interest to the respondent in the less-than-fair-value investigation, and that, as such, Aperam is entitled to receive the same antidumping duty treatment accorded AMSB. We have received no comments from the petitioners ⁶ regarding Aperam's CCR request or questionnaire response.

⁵ See Aperam's letter to the Secretary of Commerce, dated, June 14, 2011.

⁶ Petitioners consist of: Allegheny Ludlum Corporation, North American Stainless, United Auto Workers Local 3303, Zanesville Arco Independent Organization, and the United Steel, Paper and Forestry, Rubber, Manufacturing, Energy, Allied Industrial and Service Workers International Union, AFL-CIO/CLC.

Scope of the Antidumping Duty Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils; (2) Plate that is not annealed or otherwise heat treated and pickled or otherwise descaled; (3) Sheet and strip; and (4) Flat bars.

The merchandise subject to this order is currently classifiable in the Harmonized Tariff Schedule of the United States (“HTSUS”) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to these orders is dispositive.

Preliminary Results of Changed Circumstances Review

In making a successor-in-interest determination, the Department examines several factors including, but not limited to, changes in: (1) Management; (2) production facilities; (3) supplier relationships; and (4) customer base. See, e.g., Carbon and Certain Alloy Steel Wire Rod From Trinidad and Tobago: Notice of Initiation and Preliminary Results of Antidumping Duty Changed Circumstances Review, 73 FR 17952, 17953 (April 2, 2008), unchanged in Carbon and Certain Alloy Steel Wire Rod From Trinidad and Tobago: Notice of Final Results of Antidumping Duty Changed Circumstances Review, 73 FR 30052 (May 23, 2008); see also Ball Bearings and Parts Thereof from Japan: Initiation and Preliminary Results of Changed-Circumstances Review, 71 FR 14679, 14680 (March 23, 2006), unchanged in Notice of Final Results of Antidumping Duty Changed-Circumstances Review: Ball Bearings and Parts Thereof from Japan, 71 FR 26452 (May 5, 2006) (collectively, “CCR Japan”). Although no single factor or combination of factors will necessarily provide a dispositive indication of a successor-in-interest relationship, the Department will generally consider the new company to be the successor to the previous company if its resulting operation is similar to that of its predecessor. See CCR Japan; see also Brass Sheet and Strip From Canada; Final Results of Antidumping Duty Administrative Review, 57 FR 20460 (May 13, 1992), and accompanying Issues and Decision Memorandum at Comment 1. Thus, if the evidence demonstrates that, with respect to the production and sale of the subject merchandise, the new company operates as the same business entity as the prior company, the Department will assign the new company the cash-deposit rate of its predecessor. Id.; see also Circular Welded Non-Alloy Steel Pipe From the Republic of Korea; Preliminary Results of Antidumping Duty Changed Circumstances Review, 63 FR 14679 (March 26, 1998), unchanged in Circular Welded Non-Alloy Steel Pipe From Korea; Final Results of Antidumping Duty Changed Circumstances Review, 63 FR 20572 (April 27, 1998), in which the Department found that a company which only changed its name and did not change its operations is a successor-in-interest to the company before it changed its name.

In accordance with 19 CFR 351.216, we preliminarily determine that Aperam is the successor-in-interest to AMSB. In its June 14, 2011, CCR request, Aperam provided evidence supporting its claim to be the successor-in-interest to AMSB. Documentation attached to Aperam's CCR request shows that the shareholders of Aperam's corporate parent, ArcelorMittal S.A., approved a spin-off of AMSB's stainless and specialty steels business into Aperam, and the resulting name change to Aperam Stainless Belgium N.V. resulted in little or no change in management, production facility, supplier relationships, or customer base. This documentation consists of: (1) Official minutes of the extraordinary general meeting of ArcelorMittal shareholders regarding the shareholders' approval of the spin-off of ArcelorMittal's stainless and specialty steels business into Aperam; (2) a letter from Lakshmi N. Mittal, CEO, dated December 13, 2010, regarding the announcement of the spin-off of the stainless steel business from ArcelorMittal to Aperam; (3) name change registration with the Economics Ministry, Government of Belgium; (4) the Department's “Successor-in-Interest Analysis” Memorandum, dated June 1, 2009, regarding a prior successor-in-interest determination and the criteria which served as the basis for this decision; (5) list of the AMSB and Aperam's shareholders which indicates no changes before and after the spin-off; and (6) organization charts which show that the management structure prior to and after the spin-off of the stainless business to Aperam is almost identical.

In its CCR questionnaire response, dated September 12, 2011, Aperam provided further information to support its claim that it is the successor-in-interest to AMSB. Specifically, Aperam reported that, pursuant to the corporate name change from AMSB to Aperam, there were no changes to the production facilities, production capacity of SSPC, channels of distribution, customer categories, major inputs from affiliated parties or sales to its affiliates. Aperam also indicated that there were no changes in the types of SSPC produced before and after the corporate name change from AMSB to Aperam. With regard to its customers in both the United States and in its home market, Aperam's response shows that there were no significant changes resulting from the corporate name change, and Aperam cited the current market situation as the basis for the changes which occurred. Id. at pages 2-6. Aperam states, “ {n}o changes have occurred at Aperam Stainless Belgium as a result of the spin-off, nor have there been any changes in the broader organization in terms of corporate strategy, organizational structure, management, ownership, production, or sales.” Id. at page 7.

In summary, Aperam has presented evidence to support its claim of successorship. The record indicates that the corporate name change to Aperam has not significantly changed the operations of the company. The production facilities, supplier relationships, management, and customer base of Aperam are substantially unchanged from their status prior to the corporate name change. The record evidence demonstrates that Aperam operates essentially in the same manner as the predecessor company, AMSB.

We find that the evidence provided by Aperam is sufficient to preliminarily determine that the change of its corporate name from AMSB to Aperam did not affect the company's operations in a meaningful way. Therefore, based on the aforementioned reasons, we preliminarily determine that Aperam is the successor-in-interest to AMSB and, thus, should receive the same antidumping duty treatment with respect to stainless steel plate in coils from Belgium as the former AMSB.

Public Comment

Any interested party may request a hearing within 30 days of publication of this notice. Any hearing, if requested, will be held no later than 44 days after the date of publication of this notice, or the first workday thereafter. Case briefs from interested parties may be submitted not later than 30 days after the date of publication of this notice. Rebuttal briefs, limited to the issues raised in the case briefs, may be filed not later than 37 days after the date of publication of this notice. All written comments shall be submitted in accordance with 19 CFR 351.303. Persons interested in attending the hearing, if one is requested, should contact the Department for the date and time of the hearing. The Department intends to issue the final results within 270 days from the date of initiation of this changed circumstances review, in accordance with 19 CFR 351.216(e), including the results of its analysis of issues raised in any written comments.

The current requirement for a cash deposit of estimated antidumping duties on all subject merchandise will continue unless and until it is modified pursuant to the final results of this changed circumstances review.

We are issuing and publishing these results and notice in accordance with sections 751(b)(1) and 777(i)(1) and (2) of the Tariff Act of 1930, as amended, and 19 CFR 351.216.

Dated: October 20, 2011.
Ronald K. Lorentzen,
Deputy Assistant Secretary for Import Administration.

[FR Doc. 2011-27749 Filed 10-25-11; 8:45 am]

BILLING CODE 3510-DS-P